DEPARTMENT OF COMMERCE

Foreign-Trade Zones Board

[B-43-2016]

Foreign-Trade Zone (FTZ) 158—Vicksburg/Jackson, Mississippi; Authorization of Production Activity; Bauhaus Furniture Group, LLC; H.M. Richards Company, Inc.; Lane Home Furniture; Morgan Fabrics Corporation; (Upholstered Furniture); Tupelo, Mississippi, Area

On June 17, 2016, the Greater Mississippi Foreign-Trade Zone, Inc., grantee of FTZ 158, submitted a notification of proposed production activity to the FTZ Board on behalf of Bauhaus Furniture Group, LLC, H.M. Richards Company, Inc., Lane Home Furniture, and Morgan Fabrics Corporation within FTZ 158 in the greater Tupelo, Mississippi, area.

The notification was processed in accordance with the regulations of the FTZ Board (15 CFR part 400), including notice in the Federal Register inviting public comment (81 FR 42648, June 30, 2016). The FTZ Board has determined that no further review of the activity is warranted at this time. The production activity described in the notification is authorized, subject to the FTZ Act and the Board's regulations, including Section 400.14. The activity also remains subject to the conditions of B-29-2013, B-21-2013, B-28-2013 and Board Order 1877.

Dated: October 17, 2016.
Elizabeth Whiteman,
Acting Executive Secretary.

[FR Doc. 2016-25437 Filed 10-19-16; 8:45 am]

BILLING CODE 3510-DS-P